DEPARTMENT OF THE INTERIOR

Bureau of Land Management

[ID-080-1220-PA]

Restriction Order for BLM Lands in Gamlin Lake Area, Bonner County, Idaho No. ID-080-24

AGENCY: Bureau of Land Management, Upper Columbia-Salmon Clearwater District, Idaho Department of the Interior.

ACTION: Notice of restriction order for BLM Lands in Gamlin Lake area, Bonner County, Idaho, Order No. ID-080-24.

SUMMARY: By order, the following restrictions apply to the Gamlin Lake Special Management Area, described as all public land administered by the Bureau of Land Management (BLM) located in Section 7, T.56N., R.1E., Boise Meridian. Maps depicting the restricted area are available for public inspection at the BLM, Coeur d'Alene Field Office, 1808 North Third St., Coeur d'Alene, Idaho 83814.

1. Overnight camping by any person or group of persons is prohibited.

2. Grazing and equestrian activities (to include recreational or personal uses) with horses and similar animals such as mules, burrows, and llamas are prohibited.

The authority for establishing these restrictions is Title 43, Code of Federal Regulations, 8364.1.

3. Use of motorized vehicles on other than existing county roads is prohibited. The authority for establishing this restriction is Title 43, Code of Federal Regulations, 8341.2. These restrictions become effective immediately and shall remain in effect until revoked. These restrictions do not apply to:

(1) Any federal, state, or local official or member of an organized rescue or fire fighting force while in the performance of an official duty.

(2) Any Bureau of Land Management employee, agent, contractor, or cooperator while in the performance of an official duty.

(3) Any person or group expressly authorized by an Authorized Officer to use or occupy the subject public land through the issuance of a special recreational use permit or other use authorization.

These restrictions are necessary because the area does not have facilities which can accommodate overnight camping and the activities associated with long-term occupancy; trails aren't constructed to accommodate equestrian activities; and to protect the public land from soil erosion and habitat degradation due to off-road vehicle use.

Violation of this order is punishable by a fine not to exceed $1,000 and/or imprisonment not to exceed 12 months.

FOR FURTHER INFORMATION CONTACT: Eric Thomson, Field Manager, Bureau of Land Management Coeur d'Alene Field Office, 1808 N. Third Street, Coeur d'Alene, Idaho 83814.

Dated: July 13, 2000.
Ted Graf,
Acting District Manager.

[FR Doc. 00-18836 Filed 7-25-00; 8:45 am]

BILLING CODE 4310-66-M